INTERNATIONAL TRADE COMMISSION

[Investigation No. 332-463]

Logistic Services: An Overview of the Global Market and Potential Effects of Removing Trade Impediments

AGENCY: International Trade Commission.

ACTION: Change of hearing date.

SUMMARY: The date of the public hearing in this investigation has been changed to 9:30 a.m. on November 19, 2004, from the previously announced date of November 18. All deadlines for filing briefs and other submissions, including requests to appear at the hearing, remain the same as in the original notice of investigation and public hearing that was published in the Federal Register of September 2, 2004 (69 FR 53735).

Issued: October 4, 2004.
By order of the Commission.
Marilyn R. Abbott,
Secretary to the Commission.

[FR Doc. 04-22695 Filed 10-7-04; 8:45 am]

BILLING CODE 7020-02-P